DEPARTMENT OF HEALTH AND HUMAN SERVICES

National Institutes of Health

Office of the Director, National Institutes of Health; Notice of Meeting

Pursuant to section 10(d) of the Federal Advisory Committee Act, as amended, notice is hereby given of a meeting of the Novel and Exceptional Technology and Research Advisory Committee.

The meeting will be held as a virtual meeting and is open to the public. Individuals who plan to view the virtual meeting and need special assistance or other reasonable accommodations to view the meeting should notify the Contact Person listed below in advance of the meeting. The meeting will be videocast and can be accessed from the NIH Videocasting and Podcasting website (http://videocast.nih.gov/).

Name of Committee: Novel and Exceptional Technology and Research Advisory Committee.

Date: June 25, 2021.

Time: 1:00 p.m. to 3:30 p.m.

Agenda: The Novel and Exceptional Technology and Research Advisory Committee (NExTRAC) will discuss the Draft Report of the Gene Drives in Biomedical Research Working Group and next steps for the Committee.

Place: National Institutes of Health, 6705 Rockledge Drive, Suite 750, Bethesda, MD 20892 (Virtual Meeting—Link for the meeting will be available at https://osp.od.nih.gov/biotechnology/main-nextrac/#meetings).

Contact Person: Kinshasa Letts, Office of Science Policy, National Institutes of Health, 6705 Rockledge Drive, Suite 750, Bethesda, MD 20892, 301-496-9838, SciencePolicy@od.nih.gov.

To sign up to make an oral public comment, please submit your name, affiliation, and short description of the oral comment to the Contact Person listed above by 5:00 p.m. EDT, June 21, 2021. Sign up will be restricted to one sign up per email and oral comments will be limited to two minutes. Once all time slots are filled, only written comments will be accepted. Any interested person may file written comments by forwarding their statement to the Contact Person listed on this notice. The Contact Person should receive any written statements by 5:00 p.m. EDT, June 23, 2021.

Information is also available on the NExTRAC web page: https://osp.od.nih.gov/biotechnology/main-nextrac/#meetings, where an agenda and any additional information for the meeting will be posted when available. The Draft Report of the Gene Drives in Biomedical Research Working Group will be posted prior to the meeting. Please check this website for updates.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: May 20, 2021.
David W. Freeman,
Program Analyst, Office of Federal Advisory Committee Policy.

[FR Doc. 2021-11105 Filed 5-25-21; 8:45 am]

BILLING CODE 4140-01-P